DEPARTMENT OF COMMERCE

National Oceanic and Atmospheric Administration

Agency Information Collection Activities; Submission to the Office of Management and Budget (OMB) for Review and Approval; Comment Request; Alaska Chinook Salmon Economic Data Report (EDR)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 11, 2025 during a 60-day comment period. This notice allows for an additional 30 days for public comments.

Agency: National Oceanic and Atmospheric Administration, Commerce.

Title: Alaska Chinook Salmon Economic Data Report (EDR).

OMB Control Number: 0648-0633.

Form Number(s): None.

Type of Request: Regular submission. Extension of a current information collection.

Number of Respondents: 151.

Average Hours per Response: Compensated Transfer Report: 40 hours; Vessel Fuel Survey: 4 hours; Vessel Master Survey: 4 hours.

Total Annual Burden Hours: 640.

Needs and Uses: The National Marine Fisheries Service (NMFS), Alaska Regional Office, is requesting renewal of the currently approved information collection for the Chinook Salmon Economic Data Report (EDR) Program.

National Marine Fisheries Service (NMFS) manages the Bering Sea pollock fishery under the American Fisheries Act (AFA) (16 U.S.C. 1851). AFA fishing vessels harvest pollock in the Bering Sea pollock fishery using pelagic trawl gear, which consists of large nets towed through the water by the vessel. At times, Chinook salmon and pollock occur in the same locations in the Bering Sea; consequently, Chinook salmon are incidentally caught in the nets as pollock is harvested. This incidental catch is called bycatch and is also called prohibited species catch (PSC).

The Chinook Salmon EDR Program provides NMFS and the North Pacific Fishery Management Council (Council) with data to evaluate the effectiveness of Chinook salmon bycatch management measures for the Bering Sea pollock fishery that were implemented under Amendment 91 to the Fishery Management Plan for Groundfish of the Bering Sea and Aleutian Islands Management Area (75 FR 53026, August 30, 2010). The Chinook Salmon EDR requirements were revised in 2023 to remove third party data verification audits and blind formatting of EDR data (88 FR 7586). The Chinook Salmon EDR Program provides information to the analysts and the Council and is intended to evaluate the effectiveness of the Chinook Salmon Incentive Plan Agreement (IPA) (see OMB Control No. 0648-0401). The Chinook Salmon EDR Program is intended to evaluate where, when, and how pollock fishing and salmon bycatch occur and to provide data to study and verify conclusions drawn by industry in the IPA annual reports.

The Chinook Salmon EDR Program is managed primarily by the Alaska Fisheries Science Center, with support from NMFS Alaska Region, and is administered in collaboration with Pacific States Marine Fisheries Commission. The EDR is a mandatory reporting requirement under 50 CFR 679.65 for all entities participating in the AFA Bering Sea (BS) pollock trawl fishery, including vessel masters and businesses that own or lease one or more AFA‐permitted vessels active in fishing or processing BS pollock, Western Alaska Community Development Quota groups receiving allocations of BS pollock, and representatives of sector entities receiving allocations of Chinook salmon PSC from NMFS.

The Chinook Salmon EDR Program consists of three separate forms:

• Chinook PSC Allocation In-season Compensated Transfer Report—Collects transfer and monetary compensation information for Chinook salmon PSC allocations.

• Vessel Fuel Survey—Collects fuel consumption and average fuel costs.

• Vessel Master Survey—Collects vessel master impressions of fishing experiences during the year and of Chinook salmon PSC avoidance efforts.

These collections are unchanged since the previous revision in 2023.

Affected Public: Business or other for-profit organizations.

Frequency: Annually.

Respondent's Obligation: Mandatory.

Legal Authority: The EDR is a mandatory reporting requirement under 50 CFR 679.65. Magnuson-Stevens Fishery Conservation and Management Act, 16 U.S.C. 1801 et seq. American Fisheries Act, 16 U.S.C. 1851.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0633.

Sheleen Dumas,
Departmental PRA Compliance Officer, Office of the Under Secretary for Economic Affairs, Commerce Department.

[FR Doc. 2025-21781 Filed 12-2-25; 8:45 am]

BILLING CODE 3510-22-P